CONSUMER PRODUCT SAFETY COMMISSION

[Docket No. CPSC-2009-0044]

Agency Information Collection Activities; Submission for OMB Review; Comment Request—Safety Standard for Cigarette Lighters

AGENCY: Consumer Product Safety Commission.

ACTION: Notice.

SUMMARY: As required by the Paperwork Reduction Act of 1995, the Consumer Product Safety Commission (CPSC) announces a submission to the Office of Management and Budget (OMB), requesting an extension of approval for a collection of information associated with testing and recordkeeping requirements in regulations implementing the Safety Standard for Cigarette Lighters, approved previously under OMB Control No. 3041-0116. On June 5, 2019, CPSC published a notice announcing the agency's intent to seek an extension of approval of this collection of informations. CPSC received no comments in response to that notice.

DATES: Written comments on this request for extension of approval of information collection requirements should be submitted by September 16, 2019.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at: https://www.regulations.gov, under Docket No. CPSC-2009-0044.

FOR FURTHER INFORMATION CONTACT: Bretford Griffin, Consumer Product Safety Commission, 4330 East West Highway, Bethesda, MD 20814; (301) 504-7037, or by email to: bgriffin@cpsc.gov.

SUPPLEMENTARY INFORMATION: The CPSC seeks to renew the following currently approved collection of information. CPSC previously published a notice announcing the agency's intent to seek an extension of approval of this collection of information (84 FR 26079), and did not receive any comments. Accordingly, the information collection has been submitted to OMB without change.

Title: Safety Standard for Cigarette Lighters.

OMB Number: 3041-0116.

Type of Review: Renewal of collection.

Frequency of Response: On occasion.

Affected Public: Manufacturers and importers of cigarette lighters.

Estimated Number of Respondents: In 2018, 42 firms submitted information to the CPSC on 231 lighter models. There were four new lighter models and 227 lighters that were comparable to models previously tested (comparison lighters).

Estimated Time per Response: The burden associated with the standard includes the time and cost spent testing and maintaining the test records, either by the firm or by outside contractors. If tests are conducted in-house, staff expects that testing new lighter models would take about 90 hours per model. The total testing time for the four models would be 360 hours. Recordkeeping consists of two separate components: Recordkeeping for new lighter models, and recordkeeping for comparison lighters.

New Lighter Models—Staff estimates the time burden for recordkeeping for new lighter models to be 20 hours per model. Staff expects the total time for recordkeeping to be 80 hours (20 hours × 4 models). If tests are conducted in-house for each new model, product testing for each firm would take approximately 90 hours per model, for a total of 360 hours (90 hours × 4 models).

Comparison Lighters—Firms may also submit comparison lighters to demonstrate compliance with the standard. In 2018, 227 comparison lighters were reported to the CPSC. Although firms bear no testing costs for comparison lighters, staff estimates the burden hours for recordkeeping to be 3 hours per model. Thus, staff estimates recordkeeping for comparison lighters would take 681 hours (227 models × 3 hours).

Reporting Requirements—Firms will require approximately 1 hour per model to submit forms to CPSC, for a total annual reporting burden of 231 hours (231 models × 1 hour).

Total Estimated Annual Burden: The annual total number of hours could be as high as 1,352 hours (360 testing + 761 recordkeeping hours + 231 reporting hours) per year. If some firms elect to outsource testing of new models, the burden could be less. The CPSC estimates the total cost for firms to test, and prepare, maintain, and submit records to the CPSC in compliance with the lighter regulation would be in the range of $59,064 to $115,929, depending upon the test method chosen.

General Description of Collection: In 1993, the CPSC issued the Safety Standard for Cigarette Lighters (16 CFR part 1210) under the Consumer Product Safety Act (CPSA) (15 U.S.C. 2051 et seq.) to eliminate or reduce risks of death and burn injury from fires accidentally started by children playing with cigarette lighters. The standard requires certain test protocols, as well as recordkeeping and reporting requirements. 16 CFR part 1210, subpart B. In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Alberta E. Mills,
Secretary, Consumer Product Safety Commission.

[FR Doc. 2019-17493 Filed 8-14-19; 8:45 am]

BILLING CODE 6355-01-P